DEPARTMENT OF DEFENSE

Corps of Engineers, Department of the Army

Transfer of jurisdiction of a portion of Joliet Army Ammunition Plant to the Department of Agriculture for the Midewin National Tallgrass Prairie

AGENCY: Army Corps of Engineers, DOD.

ACTION: Notice.

SUMMARY: On October 25, 2002, in accordance with PL 104-106, Title XXIX, Subtitle A, entitled “Illinois Land Conservation Act of 1995”, the Department of the Army signed a Secretariat Memorandum to transfer approximately 10.5 acres of land at Joliet Army Ammunition Plant, Illinois to the Department of Agriculture for use by the Forest Service as the Midewin National Tallgrass Prairie. The purpose of this notice is to effect that transfer pursuant to the provisions of section 2912 (e)(2) of Pub. L. 104-106.

This is a partial transfer of the entire acreage contemplated by the statute. Additional transfers will be made in the future. A legal description dated March 6, 2001 of the property, which is the subject of the partial transfer, is on file with the U.S. Army Engineer District, Corps of Engineers, Louisville, Kentucky and the Office of the Regional Forester, USDA, Forest Service.

FOR FURTHER INFORMATION CONTACT: Mr. Lloyd A. Foe, 502-315-6969.

ADDRESSES: Documents are on file at locations:

1. U.S. Army Engineer District, Louisville, Corps of Engineers, PO Box 59, Louisville, Kentucky 40201-0059.

2. Office of the Regional Forester, USDA, Forest Service, 310 W. Wisconsin Avenue, Milwaukee, Wisconsin 53203.

SUPPLMENTARY INFORMATION: None.

Michael G. Barter,
Chief, Real Estate Division.

[FR Doc. 03-4024 Filed 2-19-03; 8:45 am]

BILLING CODE 3710-JB-P